POSTAL SERVICE

39 CFR PART 955

Rules of Practice Before the Postal Service Board of Contract Appeals

AGENCY: Postal Service.

ACTION: Final rule.

SUMMARY: This document revises a portion of the rules of practice before the Postal Service Board of Contract Appeals to clarify that the Associate Judicial Officer is not required to serve as the Board's Vice Chairman.

DATES: Effective: February 11, 2016.

ADDRESSES: Correspondence regarding this document may be addressed to: Postal Service Judicial Officer Department, 2101 Wilson Boulevard, Suite 600, Arlington, VA 22201-3078.

FOR FURTHER INFORMATION CONTACT: Judicial Officer Gary E. Shapiro, (703) 812-1910.

SUPPLEMENTARY INFORMATION:

A. Background

The Contract Disputes Act of 1978, as amended, established the Postal Service Board of Contract Appeals (PSBCA), and prescribed that its members consist of judges appointed by the Postmaster General, who shall meet the qualifications of and serve in the same manner as the members of the Civilian Board of Contract Appeals. (See 41 U.S.C. 7105(d)). The Board's current rules of practice state at 39 CFR 955.1(b)(2) that the Board consists of the Judicial Officer as Chairman, the Associate Judicial Officer as Vice Chairman, and the Judges of the Board, as appointed by the Postmaster General in accordance with the Contract Disputes Act of 1978, 41 U.S.C. 7101-7109, which reflected the Board's structure at the time the rules were implemented. While the Judicial Officer is appointed in accordance with the provisions of 39 U.S.C. 204, and serves as Chairman of the PSBCA, there is no statutory or other legal requirement that the Associate Judicial Officer serve as Vice Chairman.

B. Explanation of Changes

Accordingly, to enhance the efficiency and operational flexibility of the PSBCA, this document amends § 955.1(b)(2) by removing the statement reflecting the PSBCA's previously existing structure where the Associate Judicial Officer served as Vice Chairman of the Board, thus allowing any Judge of the Board to serve in that capacity. No other changes to the rules have been made.

List of Subjects in 39 CFR Part 955

Administrative practice and procedure, Government contracts.

Accordingly, for the reasons stated, the Postal Service hereby amends 39 CFR part 955 as follows:

PART 955—RULES OF PRACTICE BEFORE THE POSTAL SERVICE BOARD OF CONTRACT APPEALS

1. The authority citation for 39 CFR part 955 continues to read as follows:

Authority: 39 U.S.C. 204, 401; 41 U.S.C. 7101-7109.

2. In § 955.1, revise the first sentence of paragraph (b)(2) to read as follows:

§ 955.1 Jurisdiction, procedure, service of documents.

* * * * *

(b) * * *

(2) The Board consists of the Judicial Officer as Chairman, and the Judges of the Board, as appointed by the Postmaster General in accordance with the Contract Disputes Act of 1978, 41 U.S.C. 7101-7109. * * *

* * * * *

Stanley F. Mires,
Attorney, Federal Compliance.

[FR Doc. 2016-02741 Filed 2-10-16; 8:45 am]

BILLING CODE 7710-12-P